SOCIAL SECURITY ADMINISTRATION

Ticket to Work and Work Incentives Advisory Panel Meeting

AGENCY: Social Security Administration (SSA).

ACTION: Notice of meeting cancellation.

DATES: September 26-27, 9 a.m.-5 p.m.

ADDRESSES: Embassy Suites Hotel, 1900 Diagonal Road, Alexandria VA 22314, 703-684-5900.

SUPPLEMENTARY INFORMATION: Meeting Cancelled: In accordance with section 10(a)(2) of the Federal Advisory Committee Act, SSA announced a meeting of the Ticket to Work and Work Incentives Advisory Panel (the Panel).

The Ticket to Work and Work Incentives Improvement Act of 1999 (TWWIIA), Public Law 106-170, establishes the Panel to advise the Commissioner of Social Security, the President and the Congress on issues related to work incentives programs, planning and assistance for individuals with disabilities as provided under section 101(f)(2)(A) of TWWIIA.

The meeting of the Panel scheduled for September 26-27, 2000 in Alexandria, Virginia is cancelled. Please disregard the notice and agenda published in the Federal Register on September 12, 2000.

The Panel will reschedule a public meeting pending the publication of the Notice of Proposed Rulemaking (NPRM) to implement TWWIIA. Public comment will be taken on the NPRM at a future meeting that will be announced in the Federal Register. For updates on these and other related meetings, check the web site of SSA's Office of Employment Support Programs at http://www.ssa.gov/work/ResourcesToolkit/resourcestoolkit.html for future scheduling of the Panel's public meetings.

Dated: September 19, 2000.
Susan M. Daniels,
Deputy Commissioner for Disability and Income Security Programs.

[FR Doc. 00-24536 Filed 9-21-00; 8:45 am]

BILLING CODE 4191-02-P